DEPARTMENT OF THE INTERIOR

Bureau of Ocean Energy Management

[OMB Control Number 1010-0048; Docket ID: BOEM-2023-0004]

Agency Information Collection Activities; Geological and Geophysical Explorations of the Outer Continental Shelf

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) control number 1010-0048.

DATES: Comments must be received by the OMB desk officer no later than December 20, 2023.

ADDRESSES: Submit your written comments on this ICR to the OMB's desk officer for the Department of the Interior at www.reginfo.gov/public/do/PRAMain. From the www.reginfo.gov/public/do/PRAMain landing page, find this information collection by selecting “Currently under Review—Open for Public Comments” or by using the search function. Please provide a copy of your comments by parcel delivery service or U.S. mail to the BOEM Information Collection Clearance Officer, Anna Atkinson, Bureau of Ocean Energy Management, 45600 Woodland Road, Sterling, Virginia 20166; or by email to anna.atkinson@boem.gov. Please reference OMB Control Number 1010-0048 in the subject line of your comments. You may also comment by searching the docket number “BOEM-2023-0004” at www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: 30 CFR part 551, “Geological and Geophysical Explorations of the Outer Continental Shelf.”

Abstract: This ICR concerns the paperwork requirement in the regulations at 30 CFR part 551. This request also covers Form BOEM-0327, “Requirements for Geological and Geophysical Explorations or Scientific Research on the Outer Continental Shelf.”

Section 11(g) of the Outer Continental Shelf Lands Act (OCSLA), as amended (43 U.S.C. 1340(g)), authorizes the Secretary of the Interior to prescribe regulations to govern the issuance of permits for geological and geophysical (G&G) exploration on the Outer Continental Shelf (OCS). The OCSLA states that “any person authorized by the Secretary may conduct geological and geophysical explorations in the [OCS], which do not interfere with or endanger actual operations under any lease maintained or granted pursuant to this subchapter, and which are not unduly harmful to aquatic life in such area.” 43 U.S.C. 1340(a)(1). It further provides that permits to conduct such activities may only be issued if BOEM determines that the applicant is qualified; the activities will not interfere with or endanger operations under any lease issued or maintained pursuant to OCSLA; and the activities will not be unduly harmful to aquatic life, result in pollution, create hazardous or unsafe conditions, unreasonably interfere with other uses of the area, or disturb any site, structure, or object of historical or archaeological significance. 43 U.S.C. 1340(g)(1)-(3).

BOEM requires applicants for G&G permits to submit Form BOEM-0327 to provide the information necessary to evaluate their qualifications. Upon BOEM approval of the application, BOEM issues to the applicant the appropriate permit: Form BOEM-0328, “Permit for Geophysical Exploration for Mineral Resources or Scientific Research on the Outer Continental Shelf,” for geophysical exploration or Form BOEM-0329, “Permit for Geological Exploration for Mineral Resources or Scientific Research on the Outer Continental Shelf,” for geological exploration. BOEM completes these permit forms; applicants do not incur any paperwork burden related to Forms BOEM-0328 and -0329.

Requirements for G&G exploration or scientific research on the OCS are contained in 30 CFR part 551 and are the subject of this ICR. BOEM is also renewing Form BOEM-0327. This form outlines the requirements for G&G activities requiring permits and notices. This form also contains the application that applicants submit to BOEM and a nonexclusive use agreement for scientific research, if applicable.

OMB Control Number: 1010-0048.

Form Number: BOEM-0327, “Requirements for Geological and Geophysical Explorations or Scientific Research on the Outer Continental Shelf.”

Type of Review: Extension of a currently approved information collection.

Respondents/Affected Public: Potential respondents comprise Federal OCS oil, gas, and sulfur permittees or notice filers.

Total Estimated Number of Annual Responses: 578 responses.

Total Estimated Number of Annual Burden Hours: 21,454 hours.

Respondent's Obligation: Required to retain or obtain a benefit.

Frequency of Collection: On occasion.

Total Estimated Annual Non-Hour Burden Cost: $116,696.

The currently approved OMB paperwork burden is 35,254 annual burden hours, 688 annual responses, and $136,816 in non-hour costs. Due to a reduction in the number of annual responses to 578, the annual burden for this renewal is adjusted to 21,454 hours, and the non-hour cost burden is adjusted to $116,696.

A Federal Register notice with a 60-day public comment period on the proposed ICR was published on July 17, 2023 (88 FR 45444). BOEM did not receive any comments.

BOEM is again soliciting comments on the proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record and will be available for public review on www.reginfo.gov. BOEM will include or summarize each comment in its ICR to OMB for approval of this information collection. You should be aware that your entire comment—including your address, phone number, email address, or other personally identifiable information included in your comment—may be made publicly available at any time. Even if BOEM withholds your information in the context of this ICR, your comment is subject to the Freedom of Information Act (FOIA). If your submission is requested under FOIA, your information will only be withheld if a determination is made that one of the FOIA exemptions to disclosure applies. Such a determination will be made in accordance with the Department's FOIA regulations (43 CFR part 2) and applicable law.

For BOEM to consider withholding from disclosure your personally identifiable information, you must identify, in a cover letter, any information contained in your comment that, if released, would constitute a clearly unwarranted invasion of your personal privacy. You must also briefly describe any possible harmful consequences of the disclosure of information, such as embarrassment, injury, or other harm. Note that BOEM will make available for public inspection all comments in their entirety (except for proprietary information submitted by organizations and businesses, or by individuals identifying themselves as representatives of organizations or businesses).

BOEM protects proprietary information in accordance with FOIA (5 U.S.C. 552) and DOI's implementing regulations (43 CFR part 2).

An agency may not conduct or sponsor, and a person is not required to respond to, a collection of information unless it displays a currently valid OMB control number.

The authority for this action is the Paperwork Reduction Act of 1995 (44 U.S.C. 3501 et seq.).

Karen Thundiyil,
Chief, Office of Regulations, Bureau of Ocean Energy Management.

[FR Doc. 2023-25588 Filed 11-17-23; 8:45 am]

BILLING CODE 4340-98-P